SMALL BUSINESS ADMINISTRATION

[Disaster Declaration #12238 and #12239]

Nebraska Disaster Number NE-00038.

AGENCY: U.S. Small Business Administration.

ACTION: Amendment 2.

SUMMARY: This is an amendment of the Presidential declaration of a major disaster for Public Assistance Only for the State of Nebraska (FEMA-1924-DR), dated 07/15/2010.

Incident: Severe Storms, Flooding, and Tornadoes.

Incident Period: 06/01/2010 through 08/29/2010.

Effective Date: 09/01/2010.

Physical Loan Application Deadline Date: 09/13/2010.

Economic Injury (EIDL) Loan Application Deadline Date: 04/15/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Nebraska, dated 07/15/2010, is hereby amended to include the following areas as adversely affected by the disaster.

Primary Counties: Adams, Buffalo, Dawes, Dawson, Hooker, Jefferson, Sheridan, Thurston.

All other information in the original declaration remains unchanged.

(Catalog of Federal Domestic Assistance Numbers 59002 and 59008)

Roger B. Garland,
Acting Associate Administrator for Disaster Assistance.

[FR Doc. 2010-22743 Filed 9-10-10; 8:45 am]

BILLING CODE 8025-01-P